COMMITTEE FOR PURCHASE FROM PEOPLE WHO ARE BLIND OR SEVERELY DISABLED

Procurement List; Additions and Deletions

AGENCY: Committee for Purchase From People Who Are Blind or Severely Disabled.

ACTION: Additions to and deletions from the Procurement List.

SUMMARY: This action adds products and services to the Procurement List that will be furnished by nonprofit agencies employing persons who are blind or have other severe disabilities, and deletes products and a service from the Procurement List previously furnished by such agencies.

DATES: Effective Date: 7/31/2016.

ADDRESSES: Committee for Purchase From People Who Are Blind or Severely Disabled, 1401 S. Clark Street, Suite 715, Arlington, Virginia, 22202-4149.

FOR FURTHER INFORMATION CONTACT: Barry S. Lineback, Telephone: (703) 603-7740, Fax: (703) 603-0655, or email CMTEFedReg@AbilityOne.gov.

SUPPLEMENTARY INFORMATION:

Additions

On 5/20/2016 (81 FR 31917-31918) and 5/27/2016 (81 FR 33665-33666), the Committee for Purchase From People Who Are Blind or Severely Disabled published notices of proposed additions to the Procurement List.

After consideration of the material presented to it concerning capability of qualified nonprofit agencies to provide the products and services and impact of the additions on the current or most recent contractors, the Committee has determined that the products and services listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the products and services to the Government.

2. The action will result in authorizing small entities to furnish the products and services to the Government.

3. There are no known regulatory alternatives which would accomplish the objectives of the Javits-Wagner-O'Day Act (41 U.S.C. 8501-8506) in connection with the products and services proposed for addition to the Procurement List.

End of Certification

Accordingly, the following products and services are added to the Procurement List:

Products

NSN(s)—Product Name(s): MR 10738—Holder, Pot Lid and Utensil, Includes Shipper 20738

Mandatory for: The requirements of military commissaries and exchanges in accordance with the Code of Federal Regulations, Chapter 51, 51-6.4

Mandatory Source(s) of Supply: Winston-Salem Industries for the Blind, Inc., Winston-Salem, NC

Contracting Activity: Defense Commissary Agency

Distribution: C-List

NSN(s)—Product Name(s): 6135-00-985-7846—Battery, Non-rechargeable, C, Alkaline

Mandatory for: Total Government Requirement

Mandatory Source(s) of Supply: Eastern Carolina Vocational Center, Inc., Greenville, NC

Contracting Activity: Defense Logistics Agency Land and Maritime, Columbus, OH

Distribution: A-List

Services

Service Type: Contractor Operated Parts Store (COPARS)

Mandatory for: U.S. Marine Corps, Motor Transport Department, Marine Corps Air Station, Building 160, Cherry Point, NC

Mandatory Source(s) of Supply: Eastern Carolina Vocational Center, Inc., Greenville, NC

Contracting Activity: Dept of the Navy, Commanding General, Camp Lejeune, NC

Service Type: Base Supply Center

Mandatory for: Defense Health Agency, Defense Health Headquarters, 7700 Arlington Boulevard, Falls Church, VA

Mandatory Source(s) of Supply: Virginia Industries for the Blind, Charlottesville, VA

Contracting Activity: Defense Health Agency (DHA), Defense Health Agency—Falls Church, Falls Church, VA

Deletions

On 5/27/2016 (81 FR 33665-33666), the Committee for Purchase From People Who Are Blind or Severely Disabled published notice of proposed deletions from the Procurement List. After consideration of the relevant matter presented, the Committee has determined that the products and service listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the products and service to the Government.

3. There are no known regulatory alternatives which would accomplish the objectives of the Javits-Wagner-O'Day Act (41 U.S.C. 8501-8506) in connection with the products and service deleted from the Procurement List.

End of Certification

Accordingly, the following products and service are deleted from the Procurement List:

Products

NSN(s)—Product Name(s): 6515-00-NSH-0004—Applicator, Disposable; 6515-00-NSH-0005—Applicator, Disposable

Mandatory Source(s) of Supply: Suburban Adult Services, Inc., Elma, NY

Contracting Activities: Department of Veterans Affairs; Defense Logistics Agency Troop Support

Service

Service Type: Custodial Service

Mandatory for: U.S. Army Reserve, Chapman USARC, Danville, IL

Mandatory Source(s) of Supply: Child-Adult Resource Services, Inc., Rockville, IN

Contracting Activity: Dept of the Army, W6QM MICC FT MCCOY (RC)

Barry S. Lineback,
Director, Business Operations.

[FR Doc. 2016-15691 Filed 6-30-16; 8:45 am]

BILLING CODE 6353-01-P